DEPARTMENT OF HEALTH AND HUMAN SERVICES

[Document Identifier: OS-0990-New; 30-day notice]

Agency Information Collection Request: 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; fax to OMB at 202-395-5806.

Proposed Project: Effects of Insurance Market Reforms—OMB No. 0990-New-Office of the Assistant Secretary for Planning and Evaluation (ASPE).

Abstract: The Office of the Assistant Secretary for Planning and Evaluation (ASPE) is requesting Office of Management and Budget (OMB) approval on a new data collection, consisting of a survey of a national sample of health insurers to learn about the effects of various recent insurance market reforms from the Affordable Care Act (ACA) on premiums and coverage for certain benefits. ASPE will use the results of this survey in conjunction with other data sources to build a more complete picture of the effects of the insurance market reforms that went into effect in September of 2010. The survey instrument will be a one-time, self-administered web survey sent to eight of the 12 largest insurers in each state plus the District of Columbia based on total 2009 comprehensive major medical premiums, yielding a targeted sample of 408 health insurers. Each health insurer will be asked to provide self-reported data on the percentage of covered lives with coverage for various benefits before and after the insurance market reforms went into effect, any effect of these reforms on premiums, and coverage for select other benefits under consideration for the essential benefits package. The survey design and content have been reviewed by both the ASPE project officer and other ASPE personnel, and by several former and current chief actuaries at health insurers. Data collection activities will be completed within 60 days (two months) of OMB Clearance.

Estimated Annualized Burden Table
Forms | Type of respondent | Number of respondents | Number of responses per respondent | Average burden (in hours) per response | Total burden hours
Self-administered web survey | Chief Actuary at health insurance companies | 408 | 1 | 45/60 | 306

Mary Forbes,
Paperwork Reduction Act Clearance Officer, Office of the Secretary.

[FR Doc. 2011-19211 Filed 7-28-11; 8:45 am]

BILLING CODE 4150-06-P